DEPARTMENT OF COMMERCE

National Oceanic and Atmospheric Administration

RIN 0648-XC259

North Pacific Fishery Management Council; Public Meeting

AGENCY: National Marine Fisheries Service (NMFS), National Oceanic and Atmospheric Administration (NOAA), Commerce.

ACTION: Notice of a public meeting.

SUMMARY: The North Pacific Fishery Management Council (Council) Charter Management Implementation Committee will convene via a conference call.

DATES: The meeting will be held on October 19, 2012 at 10 a.m. (AST). The call in number is: (907) 271-2896.

ADDRESSES: The conference call will be held at the North Pacific Fishery Management Council, 605 W. 4th Avenue, Suite 205, Anchorage, AK.

Council address: North Pacific Fishery Management Council, 605 W. 4th Ave., Suite 306, Anchorage, AK 99501-2252.

FOR FURTHER INFORMATION CONTACT: Jane DiCosimo, Council staff; telephone: (907) 271-2809.

SUPPLEMENTARY INFORMATION: The agenda is to identify a range of potential management measures, using the status quo management measures of one fish less than 45 inches or greater than 68 inches as the baseline for Area 2C. Committee recommendations will be incorporated into an analysis for Council review in December 2012. The Council will recommend a preferred measure for consideration by the International Pacific Halibut Commission at its January 2013 meeting, for implementation in 2013.

Although non-emergency issues not contained in this agenda may come before this group for discussion, those issues may not be the subject of formal action during this meeting. Action will be restricted to those issues of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: September 25, 2012.
Tracey L. Thompson,
Acting Deputy Director, Office of Sustainable Fisheries, National Marine Fisheries Service.

[FR Doc. 2012-23956 Filed 9-28-12; 8:45 am]

BILLING CODE 3510-22-P